FEDERAL COMMUNICATIONS COMMISSION

Notice of Public Information Collection(s) Being Reviewed by the Federal Communications Commission; Comments Requested

June 1, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 13, 2001. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0630.

Title: Section 73.62 Directional Antenna System Tolerances.

Form No.: n/a.

Type of Review: Extension of currently approved collection.

Respondents: Businesses or other for-profit, not-for-profit institutions.

Number of Respondents: 750.

Estimated Hours Per Response: 4.5 hours.

Frequency of Response: On occasion.

Cost to Respondents: $0.

Estimated Total Annual Burden: 3,375 hours.

Needs and Uses: Section 73.62(b) requires an AM station with a directional antenna system to measure and log every monitoring point at least once for each mode of directional operation within 24 hours of detection of variance of operating parameters from allowed tolerances. The data is used by station engineers to correct the operating parameters of the directional antenna. The data is also used by FCC staff in field investigations to ensure that stations are in compliance with the technical requirements of the Commission's rules.

OMB Control Number: 3060-0316.

Title: Section 76.305 Records to be maintained locally by cable system operators for public inspection.

From Number: N/A.

Type of Review: Extension of currently approved collection.

Respondents: Business or other for-profit entities.

Number of Respondents: 4,670.

Estimated Time Per Response: 26 hours annually.

Total Annual Costs: $2,064,140. (4,670 cable systems × 26 hours = 121,420 hours). (121,420 × $17 per hour for individuals tasked with recordkeeping requirements).

Needs and Uses: Section 76.305 of the Commission's rules requires cable television systems having 1,000 or more subscribers to maintain a public inspection file containing certain records. The records are used by FCC staff in field inspection/investigations, local public officials and the public to assess a cable televisions system's performance and to ensure that the system is in compliance with all of the Commission's applicable rules and regulations.

OMB Control Number: 3060-0332.

Title: Section 76.1706 Signal leakage logs and repair records.

From Number: N/A.

Type of Review: Extension of currently approved collection.

Respondents: Business or other for-profit entities.

Number of Respondents: 10,080.

Estimated Time Per Response: 0.5 hours.

Total Annual Costs: $127,008.

Needs and Uses: The requirements under this OMB control number were previously contained in section 76.614. The data are used by cable television systems and the Commission to prevent, locate and eliminate harmful interference as it occurs, to help assure safe operation of aeronautical and marine radio services and to minimize the possibility of interference to these safety-of-life services.

Federal Communications Commission.
Magalie Roman Salas,
Secretary.

[FR Doc. 01-14664 Filed 6-11-01; 8:45 am]

BILLING CODE 6712-01-P